DEPARTMENT OF THE INTERIOR

National Park Service

Concession Contracts and Permits

AGENCY: National Park Service, Interior.

ACTION: Public notice.

SUMMARY: Pursuant to the terms of existing concession contracts, public notice is hereby given that the National Park Service intends to request a continuation of visitor services for a period not-to-exceed 1 year from the date of contract expiration.

DATES: Effective Date: January 1, 2007.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

Conc ID No. | Concessioner name | Park
CHIS003-98 | Truth Aquatics | Channel Islands National Park.
DEVA001-84 | Xanterra Parks & Resorts, Inc. | Death Valley National Monument.
DEVA002-81 | Xanterra Parks & Resorts, Inc. | Death Valley National Monument.
GOGA008-88 | Demosthemes Hontalas, Thomas Hontalas & William Hontalas | Golden Gate National Recreation Area.
LACH003-94 | Lake Chelan Recreation, Inc. | Lake Chelan National Recreation Area.
LAME001-73 | Rex G. Maughan & Ruth G. Maughan | Lake Mead National Recreation Area.
LAME002-82 | Lake Mead RV Village, LLC | Lake Mead National Recreation Area.
LAME003-94 | Seven Resorts, Inc. | Lake Mead National Recreation Area.
LAME005-97 | Rex G. Maughan | Lake Mead National Recreation Area.
LAME006-74 | Las Vegas Boat Harbor, Inc | Lake Mead National Recreation Area.
LAME007-84 | Seven Resorts, Inc | Lake Mead National Recreation Area.
LAME008-88 | Overton Beach Resort, Inc | Lake Mead National Recreation Area.
LAME009-88 | Seven Resorts, Inc | Lake Mead National Recreation Area.
LAME010-71 | Seven Resorts, Inc | Lake Mead National Recreation Area.
LAVO001-82 | California Guest Services, Inc | Lassen Volcanic National Park.
MUWO001-85 | ARAMARK Sports & Entertainment, Inc | Muir Woods National Monument.
OLYM002-89 | Log Cabin Resort, Inc | Olympic National Park.
OLYM005-87 | Forever Resorts, LLC | Olympic National Park.
ROLA003-87 | Ross Lake Resort, Inc | Ross Lake National Recreation Area.
YOSE001-98 | Best's Studio, Inc | Yosemite National Park.

FOR FURTHER INFORMATION CONTACT: Jo A. Pendry, Concession Program Manager, National Park Service, Washington, DC 20240, Telephone 202/513-7156.

Dated: December 16, 2006.
John Wessels,
Acting Assistant Director, Business Services.

[FR Doc. 07-666 Filed 2-13-07; 8:45 am]

BILLING CODE 4312-53-M